DEPARTMENT OF ENERGY

Federal Energy Regulatory Commission

[Docket No. RP12-123-000]

ANR Storage Company; Notice of Informal Settlement Conference

Take notice that an informal settlement conference will be convened in this proceeding commencing at 10:00 a.m. on May 3, 2012 at the offices of the Federal Energy Regulatory Commission, 888 First Street NE. Washington, DC 20426, for the purpose of exploring the possible settlement of the above-referenced dockets.

Any party, as defined by 18 CFR 385.102(c), or any participant as defined by 18 CFR 385.102(b), is invited to attend. A person wishing to become a party must move to intervene and receive intervenor status pursuant to the Commission's regulations (18 CFR 385.214).

For additional information, please contact Marc Gary Denkinger, 202-502-8662, marc.denkinger@ferc.gov, or Lorna J. Hadlock, 202-502-8737, lorna.hadlock@ferc.gov.

Dated: April 30, 2012.
Kimberly D. Bose,
Secretary.

[FR Doc. 2012-10782 Filed 5-3-12; 8:45 am]

BILLING CODE 6717-01-P